ENVIRONMENTAL PROTECTION AGENCY

[EPA R9-2024-01; FRL-12107-01-R9]

Notice of Proposed Administrative Settlement Agreement and Order on Consent for Removal Actions and Recovery of Past Response Costs at the Max Johnson No. 9, Manuel Denetsone No. 2, and Juan Horse No. 3 Abandoned Uranium Mine Sites, Navajo Nation, Coconino County, Arizona

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”) has entered into a proposed settlement, embodied in an Administrative Settlement Agreement and Order on Consent (“Settlement Agreement”), with Wells Cargo, Inc. (“Wells Cargo”). Under the Settlement Agreement, Wells Cargo agrees to take response actions and pay a portion of EPA's past response costs at the Max Johnson No. 9, Manuel Denetsone No. 2, and Juan Horse No. 3 abandoned uranium mine sites (“Sites”) in the Navajo Nation in Coconino County, Arizona.

DATES: Comments must be received on or before October 3, 2024.

ADDRESSES: The proposed settlement agreement is available for public inspection at https://insert link. Comments on the Settlement Agreement should be submitted in writing to Gregory Krauss at krauss.gregory@epa.gov. Comments should reference the Wells Cargo Sites and Docket No. 2024-01, the EPA Region 9 Docket Number for the Settlement Agreement. If for any reason you are not able to submit a comment by email, please contact Mr. Krauss at (415) 972-3913 to make alternative arrangements for submitting your comment. EPA will post its response to any comments at https://www.epa.gov/navajo-nation-uranium-cleanup/western-abandoned-uranium-mine-region, EPA's website for the Western Abandoned Uranium Mine Region in the Navajo Nation.

FOR FURTHER INFORMATION CONTACT: Gregory Krauss, Assistant Regional Counsel (ORC-3), Office of Regional Counsel, U.S. EPA Region IX, 75 Hawthorne Street, San Francisco, CA 94105; Email: krauss.gregory@epa.gov; Phone (415) 972-3913.

SUPPLEMENTARY INFORMATION: Notice of this proposed administrative settlement is made in accordance with section 122(i) of CERCLA. The Settlement Agreement concerns the performance of response actions at the Sites and the recovery by EPA of past response costs. The Settlement Agreement requires Wells Cargo to perform removal site evaluations at the Max Johnson No. 9 and Manuel Denetsone No. 2 mines, conduct certain sampling at the Juan Horse No. 3 mine, and complete an Engineering Evaluation and Cost Analysis for each of the Sites as determined to be necessary by EPA. Wells Cargo will also pay $391,183.15 to resolve its liability for EPA's past response costs through March 31, 2019. The Settlement Agreement includes a compromise of around $75,000 on interest payments and some indirect costs and provides Wells Cargo contribution protection and a covenant not to sue regarding response costs incurred through March 31, 2019, and the work to be performed. EPA will consider all comments received on the Settlement Agreement in accordance with the DATES and ADDRESSES sections of this Notice and may modify or withdraw its consent to the Settlement Agreement if comments received disclose facts or considerations that indicate that the settlement is inappropriate, improper, or inadequate.

Dated: August 27, 2024.
Will Duncan,
Acting Director, Superfund and Emergency Management Division, EPA Region 9.

[FR Doc. 2024-19709 Filed 8-30-24; 8:45 am]

BILLING CODE 6560-50-P